INTERNATIONAL TRADE COMMISSION

[Investigation Nos. 701-TA-415 and 731-TA-933 and 934 (Review)]

Polyethylene Terephthalate Film, Sheet, and Strip From India and Taiwan

Determinations

On the basis of the record ¹ developed in the subject five-year reviews, the United States International Trade Commission (Commission) determines, pursuant to section 751(c) of the Tariff Act of 1930 (19 U.S.C. § 1675(c)), that revocation of the countervailing duty order on polyethylene terephthalate film, sheet, and strip from India and the antidumping duty orders on polyethylene terephthalate film, sheet, and strip from India and Taiwan would be likely to lead to continuation or recurrence of material injury to an industry in the United States within a reasonably foreseeable time.

¹ The record is defined in sec. 207.2(f) of the Commission's Rules of Practice and Procedure (19 CFR § 207.2(f)).

Background

The Commission instituted these reviews on June 1, 2007 (72 FR 30627) and determined on September 4, 2007 that it would conduct full reviews (72 FR 52582, September 14, 2007). Notice of the scheduling of the Commission's reviews and of a public hearing to be held in connection therewith was given by posting copies of the notice in the Office of the Secretary, U.S. International Trade Commission, Washington, DC, and by publishing the notice in the Federal Register on November 5, 2007 (72 FR 64089, November 14, 2007). The hearing was held in Washington, DC, on February 20, 2008, and all persons who requested the opportunity were permitted to appear in person or by counsel.

The Commission transmitted its determinations in these reviews to the Secretary of Commerce on April 25, 2008. The views of the Commission are contained in USITC Publication 3994 (April 2008), entitled Polyethylene Terephthalate Film, Sheet, and Strip from India and Taiwan: Investigation Nos. 701-TA-415 and 731-TA-933 and 934 (Review).

By order of the Commission.
Issued: April 30, 2008.
Marilyn R. Abbott,
Secretary to the Commission.

[FR Doc. E8-9935 Filed 5-5-08; 8:45 am]

BILLING CODE 7020-02-P